ELECTION ASSISTANCE COMMISSION

Sunshine Act Meetings

AGENCY: U.S. Election Assistance Commission.

ACTION: Sunshine Act notice; Notice of public meeting agenda.

SUMMARY: Public meeting: U.S. Election Assistance Commission.

DATES: Friday, November 17, 2:00 p.m.-3:30 PM Eastern.

ADDRESSES: The meeting will be virtual and livestreamed on the U.S. Election Assistance Commission's YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an open meeting to review findings from the 2023 EAC Voluntary Electronic Poll Book Pilot Program Report and hear from subject matter experts on different aspects of testing and certification programs of this technology.

Agenda: The U.S. Election Assistance Commission (EAC) will host panels featuring election administrators, EAC staff, and election subject matter experts. They will discuss the findings of the Voluntary Electronic Poll Book Pilot Program Report, the benefits of these programs, lessons learned from the pilot, and information from the voting system test laboratories who participated.

Background: Under the authority of the Help America Vote Act (HAVA), the EAC created the Election Supporting Technology Evaluation Program (ESTEP) to establish requirements and guidelines specific to election technologies that are not covered under the Voluntary Voting System Guidelines (VVSG). The e-poll book pilot is the first in a series of pilots conducted by the ESTEP program, which will also examine voter registration databases, election night reporting systems, and ballot delivery systems.

The e-poll book pilot program testing, took place between January and August 2023. The pilot involved two VSTLs, Pro V&V and SLI Compliance, that tested e-poll book devices from five commercial manufacturers, and two in-house developers. These systems were tested against the Voluntary Electronic Poll Book Requirements (Version 0.9) developed by ESTEP in consultation with the National Institute of Standards and Technology (NIST), cybersecurity and accessibility experts, and other key stakeholders.

The full agenda will be posted in advance on the EAC website: https://www.eac.gov.

Status: This meeting will be open to the public.

Camden Kelliher,
Deputy General Counsel, U.S. Election Assistance Commission.

[FR Doc. 2023-24202 Filed 10-30-23; 4:15 pm]

BILLING CODE 4810-71-P